DEPARTMENT OF TRANSPORTATION

Federal Aviation Administration

14 CFR Part 71

[Airspace Docket No. 00-AAL-16]

RIN 2120-AA66

Modification of Colored Federal Airways; AK

AGENCY: Federal Aviation Administration (FAA), DOT.

ACTION: Final Rule.

SUMMARY: This action modifies the description of two Colored Federal airways, Green 1 (G-1) and Red 2 (R-2), in Offshore Airspace Area 1234L, Alaska. The FAA is taking this action to create a uniform floor of Class E controlled airspace 2,000 feet above ground level (AGL) throughout Offshore Control Area 1234L.

EFFECTIVE DATE: 0901 UTC, March 22, 2001.

FOR FURTHER INFORMATION CONTACT: Ken McElroy, Airspace and Rules Division, ATA-400, Office of Air Traffic Airspace Management, Federal Aviation Administration, 800 Independence Avenue, SW., Washington, DC 20591; telephone: (202) 267-8783.

SUPPLEMENTARY INFORMATION:

Background

The FAA is taking this action to create a uniform Class E airspace floor. Colored Federal airways are published in paragraph 6009 of FAA Order 7400.9H dated September 1, 2000, and effective September 16, 2000, which is incorporated by reference in 14 CFR 71.1. The colored Federal airways listed in this document will be published subsequently in the order.

The Rule

This action amends title 14 CFR part 71 (part 71) by modifying the description of two Colored Federal airways, G-1 and R-2, in Offshore Airspace Area 1234L, Alaska. Specifically, this action adjusts the floor of G-1 and R-2 to be consistent with the 2,000-foot AGL floor of Offshore Control Area 1234L.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9H, Airspace Designations and Reporting Points, dated September 1, 2000, and effective September 16, 2000, is amended as follows:

Paragraph 6009(a)—Green Federal Airways

G-1 [Revised]

From Mt. Moffett, AK, NDB 20 AGL; INT Elfee, AK, NDB 253° and Dutch Harbor, AK, NDB 360° 20 AGL; INT Elfee, AK, NDB 253° and Cold Bay VORTAC 82 DME 20 AGL; to Elfee, AK, NDB.

* * * * *

Paragraph 6009(b)—Red Federal Airways

* * * * *

R-2 [Revised]

From Elfee, AK, NDB 20 AGL; to Port Heiden, AK, NDB.

* * * * *

Issued in Washington, DC, on December 21, 2000.
Reginald C. Matthews,
Manager, Airspace and Rules Division.

[FR Doc. 00-33180 Filed 12-27-00; 8:45 am]

BILLING CODE 4910-13-P